DEPARTMENT OF ENERGY

Federal Energy Regulatory Commission

[Docket No. ER00-556-002]

New York Independent System Operator, Inc., Central Hudson Gas & Electric Corporation, Consolidated Edison Company of New York, Inc., Long Island Light Company, New York State Electric & Gas Corporation, Niagara Mohawk Power Corporation, Power Authority of the State of New York, Orange and Rockland Utilities, Inc., Rochester Gas and Electric Corporation; Notice of Compliance Filing

February 16, 2000.

Take notice that on February 11, 2000, the Members of the Transmission Owners Committee of New York State, formerly known as the Member Systems of the New York Power Pool (Member Systems), and the New York Independent System Operator, Inc. (NYISO) tendered for filing certain revised tariff sheets to the ISO Services Tariff. The Member Systems and the NYISO state that these tariff sheets are in compliance with the Commission's January 12, 2000 order in this proceeding. New York Independent System Operator, Inc. et al., 90 FERC ¶ 61,015 (2000).

The Member Systems and the NYISO request that the above-referenced tariff sheets become effective on November 18, 1999.

A copy of this filing was served upon all persons on the Commission's official service list in the captioned proceeding, and the respective electric utility regulatory agencies in New York, New Jersey and Pennsylvania.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions and protests should be filed on or before March 3, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

David P. Boergers,
Secretary.

[FR Doc. 00-4458 Filed 2-24-00; 8:45 am]

BILLING CODE 6717-01-M